DEPARTMENT OF THE TREASURY

State Small Business Credit Initiative (SSBCI) National Standards For Compliance

AGENCY: Department of the Treasury.

ACTION: Notice of Document Availability.

SUMMARY: This Notice announces the availability of “SSBCI National Standards: Compliance and Oversight for Participating States”.

DATES: Effective Date: May 15, 2012

ADDRESSES: Copies of the document are available at the SSBCI Web site at www.treasury.gov/ssbci.

FOR FURTHER INFORMATION CONTACT: Requests for additional information should be directed to Deputy Director, SSBCI, Department of the Treasury, 1500 Pennsylvania Avenue NW., Washington, DC 20220.

SUPPLEMENTARY INFORMATION: The “SSBCI National Standards: Compliance and Oversight for Participating States” are applicable to all states, territories, the District of Columbia, and municipalities that were approved by Treasury to participate in the SSBCI (“Participating States”). The list of Participating States is available here on the SSBCI Web site at www.treasury.gov/ssbci. These national standards provide Participating States with a recommended framework for identifying, monitoring, and managing SSBCI compliance and oversight risks. These national standards for compliance also provide guidance on mitigating specific risks that SSBCI believes are high-potential for all approved state programs. For each risk, SSBCI recommends specific best practices and mitigation techniques for Participating States that will supplement and inform the oversight duties imposed on Participating States by the Small Business Jobs Act of 2010 (Pub. L. 111-240) (the “Act”), the Allocation Agreement, and the SSBCI Policy Guidelines. This document is published under the authority in Section 3009(a)(2) of the Act, which requires the Secretary of the Treasury to establish minimum national standards for state programs approved under the Act.

Robert Dahl,
Treasury PRA Clearance Officer.

[FR Doc. 2012-6412 Filed 3-15-12; 8:45 am]

BILLING CODE 4810-25-P